DEPARTMENT OF THE INTERIOR

Minerals Management Service

Notice and Agenda for Meeting of the Royalty Policy Committee

AGENCY: Minerals Management Service (MMS), Interior.

ACTION: Notice of meeting.

SUMMARY: This notice announces the January 17, 2008, meeting of the Royalty Policy Committee (RPC). Agenda items for the meeting of the RPC will include remarks from the Director, MMS, and the Associate Director, Minerals Revenue Management (MRM), as well as updates from the Subcommittee on Royalty Management and the Coal and Indian Oil Valuation Subcommittees. The RPC membership includes representation from states, Indian Tribes, various mineral interests, the public-at-large (with knowledge and interest in royalty issues), and other Federal departments.

DATES: Thursday, January 17, 2008, from 8:30 a.m. to 4:30 p.m., Mountain Standard Time.

ADDRESSES: The meeting will be held at the Golden Hotel, 800 11th Street, Golden, Colorado, telephone number 303-279-0100 or 1-877-424-6423.

FOR FURTHER INFORMATION CONTACT: Gina Dan, Minerals Revenue Management, Minerals Management Service; PO Box 25165, MS 300B2, Denver, Colorado 80225-0165; telephone number

(303) 231-3392, fax number (303) 231-3780; e-mail gina.dan@mms.gov.

SUPPLEMENTARY INFORMATION: The RPC provides advice to the Secretary and top Department officials on minerals policy, operational issues, and the performance of discretionary functions under the laws governing the Department's management of Federal and Indian mineral leases and revenues. The RPC reviews and comments on revenue management and other mineral-related policies and provides a forum to convey views representative of mineral lessees, operators, revenue payors, revenue recipients, governmental agencies, and the interested public. The location and dates of future meetings will be published in the Federal Register and posted on our Internet site at http://www.mms.gov/mmab/RoyaltyPolicyCommittee/rpc_homepage.htm. Meetings are open to the public without advanced registration on a space-available basis. The public may make statements during the meetings, to the extent time permits, and file written statements with the RPC for its consideration. Copies of these written statements should be submitted to Ms. Dan by January 8, 2008. Transcripts of this meeting will be available for public inspection and copying at our offices in Building 85 on the Denver Federal Center in Lakewood, Colorado. The minutes will also be posted on our Internet site.

These meetings are conducted under the authority of the Federal Advisory Committee Act (Pub. L. 92-463, 5 U.S.C., Appendix 1) and the Office of Management and Budget (Circular No. A-63, revised).

Dated: December 19, 2007.
Lucy Querques Denett,
Associate Director, Minerals Revenue Management.

[FR Doc. E7-25081 Filed 12-26-07; 8:45 am]

BILLING CODE 4310-MR-P